DEPARTMENT OF AGRICULTURE

Animal and Plant Health Inspection Service

[Docket No. APHIS-2010-0105]

Privacy Act Systems of Records; APHIS Veterinary Services User Fee System

AGENCY: Animal and Plant Health Inspection Service, USDA.

ACTION: Notice of a proposed new system of records; request for comment.

SUMMARY: The Animal and Plant Health Inspection Service (APHIS) proposes to add a system of records to its inventory of records systems subject to the Privacy Act of 1974, as amended. The system of records being proposed is the APHIS Veterinary Services User Fee System. This notice is necessary to meet the requirements of the Privacy Act to publish in the Federal Register notice of the existence and character of record systems maintained by the agency.

Although the Privacy Act requires only that the portion of the system that describes the “routine uses” of the system be published for comment, we invite comment on all portions of this notice.

DATES: This system will be adopted without further notice on April 23, 2012 unless modified to respond to comments received from the public and published in a subsequent notice.

Comments must be received in writing, on or before April 13, 2012.

ADDRESSES: You may submit comments by either of the following methods:

• Federal eRulemaking Portal: http://www.regulations.gov/#!documentDetail;D=APHIS-2010-0105-0001.

• Postal Mail/Commercial Delivery: Send your comment to Docket No. APHIS-2010-0105, Regulatory Analysis and Development, PPD, APHIS, Station 3A-03.8, 4700 River Road Unit 118, Riverdale, Maryland 20737-1238.

Supporting documents and any comments we receive on this docket may be viewed at http://www.regulations.gov/#!docketDetail;D=APHIS-2010-0105 or in our reading room, which is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Ms. Cecilia Fuller, Project Manager, Office of the Chief Information Officer, VS, APHIS, 2150 Centre Avenue, Building B, Fort Collins, CO 80256-8117; (970) 494-7296.

SUPPLEMENTARY INFORMATION: The Privacy Act of 1974, as amended (5 U.S.C. 552a), requires agencies to publish in the Federal Register a notice of new or revised systems of records maintained by the agency. A system of records is a group of any records under the control of any agency, from which information is retrieved by the name of an individual or by some identifying number, symbol, or other identifying particular assigned to an individual.

The Animal and Plant Health Inspection Service (APHIS) of the Department of Agriculture (USDA) is proposing to add a new system of records, entitled APHIS Veterinary Services User Fee System (UFS), USDA-APHIS-18. It will be used to maintain a record of activities conducted by the agency pursuant to its responsibilities under the Debt Collection Act of 1982 (31 U.S.C. 3701 et seq.), the Debt Collection Improvement Act of 1996 (31 U.S.C. 3711 et seq.), the Food, Agriculture, Conservation and Trade Act of 1990 (Pub. L. 101-624), and the Animal Health Protection Act (7 U.S.C. 8301 et seq.).

In order to ensure that animals and animal products do not introduce pests or diseases when imported into the United States, the Veterinary Services (VS) program of APHIS performs services related to the importation and exportation of animals, animal products, birds, germ plasm, organisms, and vectors. VS incurs costs associated with inspections and other services, such as the costs of maintaining import centers and quarantine facilities, diagnostic testing, inspectors' salaries, supplies, and other miscellaneous expenses. Any person for whom a service is provided related to the importation, entry, or exportation of an animal is required to pay for the expenses of such services.

The UFS automates the tracking, collection, and processing of fees due to VS for its services provided at remote offices, import centers, port offices, or the National Veterinary Services Laboratories in Ames, Iowa.

Payment of fees due to VS for its services must take place at the location of service at the time the service is provided. The UFS generates an invoice for the fees and provides a receipt for the user. Users may also request approval for an APHIS credit account. The UFS tracks the accuracy of expenditures and collections transactions of credit accounts. Information obtained in the credit account application is entered into the Foundation Financial Information System (FFIS), the official APHIS financial system.

The UFS database contains personally identifiable information about VS customers. It contains the name; the social security number of an individual or taxpayer identification number of a business; the address, including city, county, State, and postal code; the name of the business or organization and its telephone and fax numbers; and an email address. The UFS also contains information about the user's credit account, including charges and payments made, date(s) and type of service, and APHIS credit account information. Routine uses of records maintained in the system include categories of users and the purposes of such uses.

APHIS may routinely share data in the UFS with certain Federal agencies, including the Department of the Treasury, to obtain assistance in identifying and locating individuals who are delinquent in their payments of debt owed to the Federal Government while receiving Federal salary or benefit payments, for the purpose of collecting debts. Data may also be shared with a debt collection agency or a consumer reporting agency when APHIS determines that such referral is appropriate for collecting the debtor's account.

Other routine uses of this information include releases related to investigations pertaining to violations of law or related to litigation. A complete listing of the routine uses for this system is included in the accompanying document that is published along with this notice.

The proposed information collection requests associated with the UFS system have been approved by the Office of Management and Budget under the Paperwork Reduction Act.

Report on New System

A report on the new system of records, required by 5 U.S.C. 552a(r), as implemented by Office of Management and Budget Circular A-130, was sent to the Chairman, Committee on Homeland Security and Governmental Affairs, United States Senate; the Ranking Member, Committee on Homeland Security and Governmental Affairs, United States Senate; the Chairman, Committee on Oversight and Government Reform, House of Representatives; the Ranking Member, Committee on Oversight and Government Reform, House of Representatives; and the Administrator, Office of Information and Regulatory Affairs, Office of Management and Budget.

Dated: March 6, 2012.
Thomas J. Vilsack,
Secretary.

USDA-APHIS-18

System name:

APHIS Veterinary Services User Fee System (UFS).

Security classification:

None.

System location:

The UFS is physically located in a secured room in APHIS-VS offices in Fort Collins, CO, and a backup of the system is maintained in APHIS offices in Riverdale, MD.

Categories of individuals covered by the system:

Individuals covered by the system include any person for whom a service is provided related to the importation and exportation of animals, animal products, birds, germ plasm, organisms, and vectors.

Categories of records in the system:

The system contains information such as the name; the social security number of an individual or taxpayer identification number of a business; the address, including city, county, State, postal code; the name of business or organization and its telephone and fax numbers; and an email address. The UFS also contains information about the user's credit account, including charges and payments made, date(s) and type of service, and APHIS credit account information.

Purpose(s) of the system:

The UFS automates the collection and processing of fees due to VS for its services provided at remote offices, import centers, port offices, or the National Veterinary Services Laboratories in Ames, IA.

Authority for maintenance of the system:

The Debt Collection Act of 1982 (31 U.S.C. 3701 et seq.), the Debt Collection Improvement Act of 1996 (31 U.S.C. 3711 et seq.), the Food, Agriculture, Conservation and Trade Act of 1990 (Pub. L. 101-624), and the Animal Health Protection Act (7 U.S.C. 8301 et seq.). Routine uses of records maintained in the system include categories of users and the purposes of such uses.

In addition to those disclosures generally permitted under 5 U.S.C. 552a(b) of the Privacy Act, records maintained in the system may be disclosed outside USDA as follows:

(1) To certain Federal agencies, including the Department of the Treasury, to obtain assistance in identifying and locating individuals who are delinquent in their payments of debt owed to the Federal Government while receiving Federal salary, tax refunds, or benefit payments, for the purpose of collecting debts;

(2) To a debt collection agency when USDA determines that such referral is appropriate for collecting the debtor's account as provided for in 31 U.S.C. 3718;

(3) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(4) To the Department of Justice when the agency, or any component thereof, or any employee of the agency in his or her official capacity, or any employee of the agency in his or her individual capacity where the Department of Justice has agreed to represent the employee or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(5) For use in a proceeding before a court or adjudicative body before which the agency is authorized to appear, when the agency, or any component thereof, or any employee of the agency in his or her official capacity, or any employee of the agency in his or her individual capacity where the agency has agreed to represent the employee or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(6) To appropriate agencies, entities, and persons when the agency suspects or has confirmed that the security or confidentiality of information in the system of records has been compromised; the agency has determined that as a result of the suspected or confirmed compromise there is a risk of harm to economic or property interests, a risk of identity theft or fraud, or a risk of harm to the security or integrity of this system or other systems or programs (whether maintained by the agency or another agency or entity) that rely upon the compromised information; and the disclosure made to such agencies, entities, and persons is reasonably necessary to assist in connection with the agency's efforts to respond to the suspected or confirmed compromise and prevent, minimize, or remedy such harm;

(7) To contractors and other parties engaged to assist in administering the program. Such contractors and other parties will be bound by the nondisclosure provisions of the Privacy Act. This routine use assists the agency in carrying out the program, and thus is compatible with the purpose for which the records are created and maintained;

(8) To USDA contractors, partner agency employees or contractors, or private industry employed to identify patterns, trends, or anomalies indicative of fraud, waste, or abuse; and

(9) To the National Archives and Records Administration or to the General Services Administration for records management inspections conducted under 44 U.S.C. 2904 and 2906.

Disclosure to consumer reporting agencies:

Information in the UFS may be disclosed to a consumer reporting agency when USDA determines that such referral is appropriate in accordance with 31 U.S.C. 3711(f).

Policies and practices for storing, retrieving, accessing, retaining, and disposing of records in the system:

Policies and official guidelines for storing, retrieving, accessing, retaining, and disposing of records are outlined in the APHIS Records Management Handbook and are summarized below.

Storage:

Records are maintained on magnetic tape, optical disk, and mainframe. Paper records are maintained in offices that are locked during non-business hours and require the presentation of employee identification for admittance at all times. Backup media is taken weekly to an offsite storage facility and stored on tape.

Retrievability:

Records in the UFS database are retrieved by name; social security number; taxpayer identification number; address; telephone and fax numbers; email address; claim number; date of service; type of service provided; payments made; and APHIS credit account numbers.

Safeguards:

Numerous inherent safeguards exist to protect the data in the UFS system. These safeguards include required login and authentication for network access, data encryption in transmission, physical and environmental protections, configuration management, and role-based access given on a need-to-know basis.

Retention and disposal:

Electronic data is maintained in the database and on the file server for 7 years. Archived data is maintained indefinitely in a table with read-only access. Paper records are maintained for 6 years, 3 months.

System Managers(s) and Address:

The Office of the Chief Information Officer-Veterinary Services, Animal and Plant Health Inspection Service, 4700 River Road Unit 58, Riverdale, MD 20737.

Notification procedure:

Any individual may request general information regarding this system of records or information as to whether the system contains records pertaining to him/her from the system manager at the address above. All inquiries pertaining to this system should be in writing, must name the system of records as set forth in the system notice, and must contain the individual's name, telephone number, address, and email address.

Record Access Procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record Source Categories:

Information in the UFS system is provided by the person for whom a service is provided related to the importation and exportation of animals, animal products, birds, germ plasm, organisms, and vectors. APHIS employees will also enter data into the system.

Exemptions Claimed for the System:

None.

PRIVACY ACT SYSTEM USDA-APHIS-18

System name: Veterinary Services User Fee System

NARRATIVE STATEMENT

The purpose of this new system of records, entitled Veterinary Services User Fee System (UFS), is to support activities and maintain records conducted by the agency pursuant to its mission and responsibilities under the Debt Collection Act of 1982 (31 U.S.C. 3701 et seq.), the Debt Collection Improvement Act of 1996 (31 U.S.C. 3711 et seq.), the Food, Agriculture, Conservation and Trade Act of 1990 (Public Law 101-624), and the Animal Health Protection Act (7 U.S.C. 8301 et seq.).

Within this area of responsibility, the Animal and Plant Health Inspection Service's (APHIS) Veterinary Services (VS) program uses the Veterinary Services User Fee System to automate the tracking, collection, and processing of fees due to VS for its services provided at remote offices, import centers, port offices, or the National Veterinary Services Laboratories in Ames, IA.

In order to ensure that animals and animal products do not introduce pests or diseases when imported into the United States, the VS program of APHIS performs services related to the importation and exportation of animals, animal products, birds, germ plasm, organisms, and vectors. VS incurs costs associated with inspections and other services, such as the costs of maintaining import centers and quarantine facilities, diagnostic testing, inspectors' salaries, supplies, and other miscellaneous expenses. Any person for whom a service is provided related to the importation, entry, or exportation of an animal is required to pay for the expenses of such services.

The UFS generates an invoice for the fees, provides a receipt for the user, and tracks the accuracy of expenditures and collections transactions.

The UFS database contains personally identifiable information about VS customers. It contains name; social security number of an individual or taxpayer identification number of a business; address, including city, county, State, postal code; name of business or organization, telephone and fax numbers; and email address. The UFS also contains information about the user's credit account, including charges and payments made, date(s) and type of service, and APHIS credit account information.

The UFS is physically located in a secured room in APHIS-VS offices in Fort Collins, Colorado, and a backup of the system is maintained in APHIS offices in Riverdale, MD.

In addition to those disclosures generally permitted under 5 U.S.C. 552a(b) of the Privacy Act, records maintained in the system may be disclosed outside the Department of Agriculture (USDA) for 9 routine uses. These routine uses may be described as functional and housekeeping uses.

The housekeeping routine uses include release of information to the appropriate agency charged with investigating a violation or potential violation of law; to the Department of Justice for the purpose of defending the United States in litigation, for use in a judicial or administrative proceeding; to appropriate entities or parties where there is a suspected or confirmed breach of security and the release is reasonably necessary to protect program interests or the interests of members of the public to prevent identity theft and fraud; to contractors or partner agencies for the purpose of seeking out fraud, waste, or abuse; and to the National Archives and Records Administration or to the General Services Administration.

The functional routine uses of the information being collected include release of information to contractors and other parties engaged to assist in administering the program; to certain Federal agencies, including the Department of the Treasury, to obtain assistance in identifying and locating individuals who are delinquent in their payments of debt owed to the Federal Government while receiving Federal salary, tax refunds, or benefit payments, for the purpose of collecting debts; and to a debt collection agency when the Department of Agriculture (USDA) determines that such referral is appropriate for collecting the debtor's account as provided for in 31 U.S.C. 3718.

While these routine uses allow disclosures outside USDA, and so have some impact on privacy of individuals, they are either necessary for carrying the agency mission and minimizing waste, fraud and abuse, are required by law, or benefit the subjects of the records. On balance, the needs of the agency and the benefits to the individuals of these disclosures justify the minimal impact on privacy.

Use of this system, as established, should not result in undue infringement on any individual's right to privacy. VS personnel will use the information in this system to automate the tracking, collection, and processing of fees due to VS for its services. All individuals about whom information in this system is maintained will voluntarily submit the information for the express purpose of utilizing VS services associated with the importation, entry, or exportation of an animal or animal product. These individuals or the industry in which they participate will receive benefits equal to or greater than any potential impact on their privacy.

To address privacy issues and ensure protection of information provided by employees and customers, VS has completed and received USDA approval of a privacy impact assessment (PIA), which has been posted on the USDA Privacy Policy Web site. The PIA provides detailed information about steps taken by the agency to minimize the risk of unauthorized access to the system. These steps include the use of required login and authentication for network access, data encryption in transmission, physical and environmental protections, configuration management, and role-based security and access rights.

The following information collection devices associated with this system have been approved by the Office of Management and Budget under the Paperwork Reduction Act. They have been assigned control numbers, which are listed here with their expiration dates: 0579-0094 (exp. March 2012) and 0579-0055 (exp. March 2014).

[FR Doc. 2012-6092 Filed 3-13-12; 8:45 am]

BILLING CODE 3410-34-P